FEDERAL COMMUNICATIONS COMMISSION

Sunshine Act; FCC To Hold Open Commission Meeting Tuesday, February 8, 2011

February 1, 2011.

The Federal Communications Commission will hold an Open Meeting on the subject listed below on Tuesday, February 8, 2011, which is scheduled to commence at 10:30 a.m. in Room TW-C305, at 445 12th Street, SW., Washington, DC.

The meeting will also include a presentation on the status of the comprehensive reform efforts to improve the agency's fact-based, data-driven decision making.

Item No. | Bureau | Subject
1 | Wireline Competition And Wireless Tele-Communications | Title: Connect America Fund (WC Docket No. 10-90); A National Broadband Plan for Our Future (GN Docket No. 09-51); Establishing Just and Reasonable Rates for Local Exchange Carriers (WC Docket No. 07-135); High-Cost Universal Service Support (WC Docket No. 05-337); Developing a Unified Intercarrier Compensation Regime (CC Docket No. 01-92); Federal-State Joint Board on Universal Service (CC Docket No. 96-45); Lifeline and Linkup (WC Docket No. 03-109) and Mobility Fund (WT Docket No. 10-208). Summary: The Commission will consider an item to get broadband to all of rural America and spur infrastructure investment and job creation, by modernizing the Universal Service Fund and intercarrier compensation (ICC) system while cutting waste and inefficiency.
2 | Wireline Competition | Title: Reform of the FCC Form 477 Data Program (WC Docket No. 11-10); Development of Nationwide Broadband Data to Evaluate Reasonable and Timely Deployment of Advanced Services to All Americans, Improvement of Wireless Broadband Subscribership Data, and Development of Data on Interconnected Voice over Internet Protocol (VoIP) Subscribership (WC Docket No. 07-38); Service Quality, Customer Satisfaction, Infrastructure and Operating Data Gathering (WC Docket No. 08-190) and Review of Wireline Competition Bureau Data Practices (WC Docket No. 10-132). Summary: The Commission will consider a Notice of Proposed Rulemaking, initiated as part of the Commission's Data Innovation Initiative, to streamline and modernize the collection of data via Form 477, in order to ensure that the data the Commission collects enables informed policymaking while minimizing burdens on voice and broadband service providers.
3 | Wireline Competition | Title: Review of Wireline Competition Bureau Data Practices (WC Docket No. 10-132) and Computer III Further Remand Proceedings: Bell Operating Company Provision of Enhanced Services; 1998 Biennial Regulatory Review—Review of Computer III and ONA Safeguards and Requirements. Summary: The Commission will consider a Notice of Proposed Rulemaking initiated as part of the Commission's Data Innovation Initiative, to eliminate the legacy narrowband comparably efficient interconnection (CEI) and open network architecture (ONA) reporting requirements that currently apply to the Bell Operating Companies (BOCs), due to a lack of continuing relevance and utility.

The meeting site is fully accessible to people using wheelchairs or other mobility aids. Sign language interpreters, open captioning, and assistive listening devices will be provided on site. Other reasonable accommodations for people with disabilities are available upon request. In your request, include a description of the accommodation you will need and a way we can contact you if we need more information. Last minute requests will be accepted, but may be impossible to fill. Send an e-mail to: fcc504@fcc.gov or call the Consumer & Governmental Affairs Bureau at 202-418-0530 (voice), 202-418-0432 (tty).

Additional information concerning this meeting may be obtained from Audrey Spivack or David Fiske, Office of Media Relations, (202) 418-0500; TTY 1-888-835-5322. Audio/Video coverage of the meeting will be broadcast live with open captioning over the Internet from the FCC Live Web page at http://www.fcc.gov/live.

For a fee this meeting can be viewed live over George Mason University's Capitol Connection. The Capitol Connection also will carry the meeting live via the Internet. To purchase these services call (703) 993-3100 or go to http://www.capitolconnection.gmu.edu.

Copies of materials adopted at this meeting can be purchased from the FCC's duplicating contractor, Best Copy and Printing, Inc., (202) 488-5300; Fax (202) 488-5563; TTY (202) 488-5562. These copies are available in paper format and alternative media, including large print/type; digital disk; and audio and video tape. Best Copy and Printing, Inc. may be reached by e-mail at FCC@BCPIWEB.com.

Federal Communications Commission.
Bulah P. Wheeler,
Deputy Manager.

[FR Doc. 2011-2635 Filed 2-2-11; 4:15 pm]

BILLING CODE 6712-01-P